DEPARTMENT OF COMMERCE

International Trade Administration

[C-570-966]

Drill Pipe From the People's Republic of China: Final Results of Countervailing Duty Administrative Review; 2011

AGENCY: Import Administration, International Trade Administration, Department of Commerce.

SUMMARY: The Department of Commerce (the Department) has completed its administrative review of the countervailing duty (CVD) order on drill pipe from the People's Republic of China for the period March 3, 2011, through December 31, 2011. On April 5, 2013, we published the preliminary results of this review.¹

¹ See Drill Pipe from the People's Republic of China: Preliminary Results of Countervailing Duty Administrative Review; 2011, 78 FR 20615 (April 5, 2013) (Preliminary Results).

We provided interested parties with an opportunity to comment on the Preliminary Results. Our analysis of the comments submitted has resulted in a change to the net subsidy rate for Shanxi Yida Special Steel Imp. & Exp. Co., Ltd. and its cross-owned affiliates (collectively, Yida Group). The final net subsidy rate is listed below in the section entitled “Final Results of Review.”

DATES: Effective Date: August 5, 2013

FOR FURTHER INFORMATION CONTACT: Kristen Johnson, AD/CVD Operations, Office 8, Import Administration, U.S. Department of Commerce, 14th Street and Constitution Avenue NW., Washington, DC 20230; telephone (202) 482-4793.

SUPPLEMENTARY INFORMATION:

Background

Following the Preliminary Results, we received case briefs from the Government of the People's Republic of China (GOC) and Yida Group on May 6, 2013. On June 24, 2013, we rejected the GOC's case brief because it contained untimely filed new factual information and informed the GOC that it could re-submit its case brief excluding the new information; on June 26, 2013, the GOC re-submitted its case brief. No interested party submitted a rebuttal brief. We did not hold a hearing in this review, as one was not requested.

Scope of the Order

The scope of the order consists of steel drill pipe and steel drill collars, whether or not conforming to American Petroleum Institute (API) or non-API specifications.² The merchandise subject to the order is currently classifiable under the Harmonized Tariff Schedule of the United States (HTSUS) categories: 7304.22.0030, 7304.22.0045, 7304.22.0060, 7304.23.3000, 7304.23.6030, 7304.23.6045, 7304.23.6060, 8431.43.8040 and may also enter under 8431.43.8060, 8431.43.4000, 7304.39.0028, 7304.39.0032, 7304.39.0036, 7304.39.0040, 7304.39.0044, 7304.39.0048, 7304.39.0052, 7304.39.0056, 7304.49.0015, 7304.49.0060, 7304.59.8020, 7304.59.8025, 7304.59.8030, 7304.59.8035, 7304.59.8040, 7304.59.8045, 7304.59.8050, and 7304.59.8055. Although the HTSUS subheadings are provided for convenience and customs purposes, the written product description, available in Drill Pipe From the People's Republic of China: Countervailing Duty Order, 76 FR 11758 (March 3, 2011) (CVD Order), remains dispositive.

² See Memorandum from Christian Marsh, Deputy Assistant Secretary for Antidumping and Countervailing Duty Operations, to Paul Piquado, Assistant Secretary for Import Administration, regarding “Issues and Decision Memorandum for the Final Results of the Countervailing Duty Administrative Review of Drill Pipe from the People's Republic of China,” signed concurrently with this notice and herein incorporated by reference (Final Decision Memorandum) for a complete description of the scope of the order.

Analysis of Comments Received

All issues raised in the case briefs are addressed in the Final Decision Memorandum.³ A list of the issues raised is attached to this notice as an Appendix. The Final Decision Memorandum is a public document and is on file electronically via Import Administration's Antidumping and Countervailing Duty Centralized Electronic Service System (IA ACCESS). IA ACCESS is available to registered users at http://iaaccess.trade.gov and in the Central Records Unit, room 7046 of the main Department of Commerce building. In addition, a complete version of the Final Decision Memorandum can be accessed directly on the internet at http://www.trade.gov/ia/. The signed Final Decision Memorandum and the electronic versions of the Final Decision Memorandum are identical in content.

³ See id.

Final Results of Review

In accordance with 19 CFR 351.221(b)(5), we calculated a subsidy rate for the mandatory respondent, Yida Group.

Producer/exporter | Net subsidy rate (percent)
Shanxi Yida Special Steel Imp. & Exp. Co., Ltd. and its cross-owned affiliates Shanxi Yida Special Steel Group Co., Ltd. and Shanxi Yida Petroleum Equipment Manufacturing Co., Ltd. (collectively, Yida Group) | 5.07

Assessment Rates

The Department intends to issue appropriate assessment instructions directly to U.S. Customs and Border Protection (CBP) 15 days after the date of publication of these final results, to liquidate shipments of subject merchandise by Yida Group entered, or withdrawn from warehouse, for consumption on or after March 3, 2011, through December 31, 2011.

Cash Deposit Instructions

The Department also intends to instruct CBP to collect cash deposits of estimated CVDs in the amount shown above on shipments of subject merchandise by Yida Group entered, or withdrawn from warehouse, for consumption on or after the date of publication of the final results of this review. For all non-reviewed companies, we will instruct CBP to continue to collect cash deposits at the most recent company-specific or country-wide rate applicable to the company. Accordingly, the cash deposit rates that will be applied to companies covered by this order, but not examined in this review, are those established in the most recently completed segment of the proceeding for each company.⁴ These cash deposit requirements, when imposed, shall remain in effect until further notice.

⁴ See CVD Order, 76 FR at 11759.

Administrative Protective Order

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Tariff Act of 1930, as amended.

Dated: July 29, 2013.
Paul Piquado,
Assistant Secretary+ for Import Administration.

Appendix—Issues in Decision Memorandum

Comment 1: Double Counting

Comment 2: Policy Lending to Drill Pipe Producers

Comment 3: Calculation of Benefit under Policy Lending to Drill Pipe Producers

Comment 4: Electricity Benchmark Rates

Comment 5: Calculation of Benefit under Provision of Electricity for Less Than Adequate Remuneration

Comment 6: Sales Denominator for Shanxi Yida Special Steel Imp. & Exp. Co., Ltd.

[FR Doc. 2013-18856 Filed 8-2-13; 8:45 am]

BILLING CODE 3510-DS-P